DEPARTMENT OF LABOR

Office of the Secretary

Bureau of International Labor Affairs; U.S. National Administrative Office; North American Agreement on Labor Cooperation; Extension of Comment Period

AGENCY: Office of the Secretary, Labor.

ACTION: Extension of comment period.

SUMMARY: Article 10(1)(a) of the North American Agreement on Labor Cooperation (NAALC) calls for the Council for the Commission for Labor Cooperation to review the operation and effectiveness of the NAALC. The Council completed a review of the Agreement in 1998, for the period 1994-1998, and issued a report titled “Review of the North American Agreement on Labor Cooperation.” In that report, the Council agreed to undertake a second review in the year 2002. The U.S. National Administrative Office hereby extends by 60 days the period for filing public comments for the purpose of that report. This action is taken to permit additional comments from interested persons.

DATES: Written comments on the operation and effectiveness of the NAALC should be submitted by February 3, 2004.

ADDRESSES: Send written comments to the National Administrative Office, U.S. Department of Labor, Room S-5205, 200 Constitution Avenue, NW., Washington, DC 20210.

FOR FURTHER INFORMATION CONTACT: Lewis Karesh, Acting Director, National Administrative Office, U.S. Department of Labor, 200 Constitution Avenue, NW., Room S-5205, Washington, DC 20210. Telephone: (202) 693-4900 (this is not a toll-free number).

SUPPLEMENTARY INFORMATION: The North American Agreement on Labor Cooperation (NAALC) was signed by the Presidents of the United States of America and of the United Mexican States, and the Prime Minister of Canada in September 1993 and entered into force on January 1, 1994. Article 10(1)(a) of the NAALC provides that the Council shall “oversee the implementation and develop recommendations on the further elaboration of this Agreement and, to this end, the Council shall, within four years after the date of entry into force of this Agreement, review its operation and effectiveness in light of experience * * *.” The Council carried out the first review of the Agreement in 1998 and issued a report titled “Review of the North American Agreement on Labor Cooperation.” In that report, the Council agreed to undertake a second comprehensive review in the year 2002. As part of the review, the National Administrative Office is seeking public comments on the operation and effectiveness of the NAALC from 1999 to the present. This request for public comments was previously announced in the Federal Register of November 5, 2003 (68 FR 62620), with a deadline of December 5, 2003. However, it has been decided to extend the deadline by an additional 60 days to February 3, 2004, to provide the public with more time to submit comments. Written comments and/or an electronic version (preferred in Microsoft Word format) may be sent to the National Administrative Office. In the event that a response to this notice is going to be sent by electronic mail, please use the following address—USNAO@DOL.GOV—and the following subject heading: Response to Request for Comments on NAALC Review 2004.

A text of the NAALC can be obtained at the following Internet address: http://www.dol.gov/ILAB/regs/naalc/naalc.htm. A text of the first four year review can be obtained at the following Internet address: http://www.naalc.org/english/publications/review.htm or by calling (202) 693-4900.

Signed at Washington, DC on November 18, 2003.
Lewis Karesh,
Acting Director, National Administrative Office.

[FR Doc. 03-29365 Filed 11-24-03; 8:45 am]

BILLING CODE 4510-28-P